FEDERAL COMMUNICATIONS COMMISSION

Notice of Public Information Collection(s) Being Submitted for Review to the Office of Management and Budget

December 10, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 22, 2008. If you anticipate that you will be submitting PRA comments, but find it difficult to do so within the period of time allowed by this notice, you should advise the FCC contact listed below as soon as possible.

ADDRESSES: Direct all PRA comments to Nicholas A. Fraser, Office of Management and Budget, via e-mail to Nicholas_A._Fraser@omb.eop.gov or via fax at 202-395-5167, and to the Federal Communications Commission via e-mail to PRA@fcc.gov or by U.S. mail to Leslie F. Smith, Federal Communications Commission, Room 1-C216, 445 12th Street, SW., Washington, DC 20554.

FOR FURTHER INFORMATION CONTACT: For additional information contact Leslie. F. Smith via e-mail at PRA@fcc.gov or at (202) 418-0217. Instructions for viewing a copy of the Commission's complete clearance request to OMB for 3060-0971 are available at: http://www.fcc.gov/omd/pra/collections-review.html.

SUPPLEMENTARY INFORMATION: OMB Control Number: 3060-0971.

Title: Section 52.15, Requests for “For Cause” Audits and State Commissions' Access to Numbering Resource Application Information.

Form Number: N/A.

Type of Review: Extension of a currently approved collection.

Respondents: Business or other for-profit; state, local or tribal government.

Number of Respondents: 2,100 respondents; 63,015 responses.

Estimated Time per Response: 10 minutes to 3.0 hours.

Frequency of Response: On occasion reporting requirements; third party disclosure.

Obligation to Respond: Required to obtain or retain benefits.

Total Annual Burden: 10,515 hours.

Total Annual Cost: $0.00.

Privacy Impact Assessment: No impacts.

Nature and Extent of confidentiality: The Commission requires state commissions to treat carriers' applications for initial or growth numbering resources as well as their forecast and utilization data as confidential. In those instances where a state “open records” statute prevents the state from providing confidential protection for such sensitive carrier information the Commission will work with the state commission to enable it to obtain access to such information in a manner that addresses the state's need for this information and also protects the confidential nature of the carrier's sensitive information.

Needs and Uses: To ensure that the numbering resources of the North American Numbering Plan are used efficiently, the Commission authorized “for cause” audits as part of its comprehensive audit plan to verify carrier compliance with Federal rules, under 47 CFR 52.15, and orders and industry guidelines. It also provided state commissions with access to copies of carriers' applications for numbering resources. To request a “for cause” audit, the North American Numbering Plan Administrator (NANPA), the Pooling Administrator or a state commission must draft a request to the auditor stating the reason for the request, such as misleading or inaccurate data, and attach supporting documentation. Requests for copies of carriers' applications for numbering resources are made directly to the carriers by the state commissions. The information collected will be used by the FCC, state commissions, the NANPA and the Pooling Administrator to verify the validity and accuracy of carrier data and to assist state commissions in carrying out their numbering responsibilities, such as area code relief.

Federal Communications Commission.
Marlene H. Dortch,
Secretary.

[FR Doc. E7-24509 Filed 12-19-07; 8:45 am]

BILLING CODE 6712-01-P